DEPARTMENT OF DEFENSE

Office of the Secretary

[Docket ID: DoD-2025-OS-0045]

Submission for OMB Review; Comment Request

AGENCY: Office of the Under Secretary of Defense for Intelligence and Security (OUSD(I&S)), Department of Defense (DoD).

ACTION: 30-Day information collection notice.

SUMMARY: The DoD has submitted to the Office of Management and Budget (OMB) for clearance the following proposal for collection of information under the provisions of the Paperwork Reduction Act.

DATES: Consideration will be given to all comments received by October 16, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Investigative Interview Survey; OMB Control Number 0705-0004.

Type of Request: Revision.

Number of Respondents: 35,300.

Responses per Respondent: 1.

Annual Responses: 35,300.

Average Burden per Response: 6 minutes.

Annual Burden Hours: 3,530.

Needs and Uses: The information collected on the Investigative Interview Survey (IIS) form is used to evaluate the investigative procedure exhibited by the investigator, the investigator's professionalism, and the information discussed and reported by Federal or Federal contract investigator. Completion of the IIS is voluntary. No personally identifiable information (PII) is collected in the IIS, however, there may be some instances when a respondent reports PII despite that survey instructions reflect not to provide PII. The IIS is mailed by Defense Counterintelligence Security Agency (DCSA), to a random sampling of record and personal sources who were contacted during the background investigation process by investigators performing fieldwork. The IIS is used as a quality control instrument designed to ensure the accuracy and integrity of the investigative product. In addition to the preformatted response options, DCSA invites the recipients to respond with any other relevant comments or suggestions. Results from the IIS are disseminated internally within the agency.

Affected Public: Individuals or households.

Frequency: On occasion.

Respondent's Obligation: Voluntary.

DOD Clearance Officer: Mr. Reginald Lucas.

Dated: September 11, 2025.
Stephanie J. Bost,
Alternate OSD Federal Register Liaison Officer, Department of Defense.

[FR Doc. 2025-17829 Filed 9-15-25; 8:45 am]

BILLING CODE 6001-FR-P